DEPARTMENT OF THE INTERIOR

Office of the Secretary

[UT-030-02-1610-DE-24-1A]

Establishment of Advisory Committee

AGENCY: Bureau of Land Management (BLM), Utah State Office, Interior.

ACTION: Notice of establishment of the Grand Staircase-Escalante National Monument Advisory Committee.

SUMMARY: This notice is published in accordance with Section 9(a)(2) of the Federal Advisory Committee Act of 1972, Pub. L. 92-463. Notice is hereby given that the Secretary of the Interior has established the Bureau of Land Management's Grand Staircase-Escalante National Monument Advisory Committee.

The Purpose of the Committee will be to advise Monument Managers on science and management issues and the achievement of objectives set forth in the Grand Staircase-Escalante National Monument Management Plan.

FOR FURTHER INFORMATION CONTACT: Steve Cohn, National Landscape Conservation System (171), Bureau of Land Management, 1620 L Street, NW., Room 301 LS, Washington, DC 20240, telephone (202) 785-6589.

Certification Statement

I hereby certify that the establishment of the Grand Staircase-Escalante National Monument Advisory Committee is necessary and in the public interest in connection with the Secretary of the Interior's responsibilities to manage the lands, resources, and facilities administered by the Bureau of Land Management.

Dated: September 26, 2003.
Gale A. Horton,
Secretary of the Interior.

[FR Doc. 03-25195 Filed 10-3-03; 8:45 am]

BILLING CODE 4310-DQ-P